DEPARTMENT OF AGRICULTURE

Food Safety and Inspection Service

9 CFR Part 410

[Docket No. 95-051P]

RIN 0583-AC72

DEPARTMENT OF HEALTH AND HUMAN SERVICES

Food and Drug Administration

21 CFR Part 130

[Docket No. FDA-1995-N-0062 (formerly 1995N-0294)]

RIN 0910-AC54

Food Standards; General Principles and Food Standards Modernization; Withdrawal of Proposed Rule

AGENCY: Food Safety and Inspection Service, USDA, and Food and Drug Administration, HHS.

ACTION: Proposed rule; withdrawal.

SUMMARY: The Food and Drug Administration (FDA) and the Food Safety and Inspection Service (FSIS) (jointly, we) are announcing the withdrawal of the proposed rule entitled “General Principles and Food Standards Modernization,” which published in the Federal Register of May 20, 2005. FDA and FSIS are taking this action in response to comments received in 2005 and in 2020 after FDA reopened the comment period for the proposed rule.

DATES: The proposed rule published May 20, 2005 (70 FR 29214) is withdrawn as of March 1, 2023.

FOR FURTHER INFORMATION CONTACT: Jennifer Shemansky, Center for Food Safety and Applied Nutrition (HFS-820), Food and Drug Administration, 5001 Campus Dr., College Park, MD 20740, 240-402-2371; Deirdre Jurand, Center for Food Safety and Applied Nutrition, Office of Regulations and Policy (HFS-024), Food and Drug Administration, 5001 Campus Dr., College Park, MD 20740, 240-402-2378; or Rachel Edelstein, Office of Policy and Program Development, Food Safety and Inspection Service, 1400 Independence Ave. SW, Washington, DC 20250, (202) 205-0495.

SUPPLEMENTARY INFORMATION: In the Federal Register of May 20, 2005 (70 FR 29214), FDA and FSIS jointly issued a proposed rule entitled “Food Standards; General Principles and Food Standards Modernization” as a first step in instituting a process to modernize FDA definitions and standards of identity (and standards of quality and fill of container) consistent with section 401 of the Federal Food, Drug, and Cosmetic Act (FD&C Act) (21 U.S.C. 341) and FSIS' definitions and standards of identity or composition under the Federal Meat Inspection Act and the Poultry Products Inspection Act (21 U.S.C. 607(c) and 457(b)). The proposed rule included general principles that FDA and FSIS intended to consider when determining whether to establish, revise, or eliminate a food standard. FSIS and FDA received more than 30 comments on the proposal.

FDA held public meetings in July 2018 on the Nutrition Innovation Strategy (83 FR 30180), and in September 2019 on Horizontal Approaches to Food Standards of Identity Modernization (84 FR 45497). Given how much time had passed since the proposed rule's publication, stakeholders recommended that FDA reopen the proposed rule's comment period to allow the public the opportunity to provide data and other information on changes that have occurred in manufacturing, food technology, market trends, and nutrition science that FDA should consider when determining next steps for the proposed rule. In response, FDA reopened the comment period for FDA-specific aspects of the proposed rule, including the 13 general principles, in the Federal Register of February 21, 2020 (85 FR 10107). Many comments in response to the reopening suggested that the general principles be revised and consolidated to make the principles easier to understand and implement. We agree with the comments, and so FDA and FSIS are withdrawing the proposed rule to reconsider how best to approach general principles and food standards modernization to ensure any future revised general principles are consistent with the Federal Meat Inspection Act, the Poultry Products Inspection Act, and the FD&C Act.

Robert M. Califf,
Commissioner of Food and Drugs.
Theresa Nintemann,
Deputy Administrator, FSIS.

[FR Doc. 2023-04114 Filed 2-28-23; 8:45 am]

BILLING CODE 4164-01-P